DEPARTMENT OF VETERANS AFFAIRS

Privacy Act of 1974; System of Records

AGENCY: Office of Information of Technology, Department of Veterans Affairs (VA).

ACTION: Notice of Modified System of Records.

SUMMARY: Individuals Submitting Invoices-Vouchers for Payment and Accounting Transactional Data-VA is a compilation of records received, controlled, managed, and employed for payment processing; general accounting; benefit payment distribution to veterans and their families; commercial vendor invoices for contract and reimbursement expenditures; and payroll payments.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Written comments may be submitted through www.Regulation.gov; by mail or hand-delivery to Director, Regulation Policy and Management (00REG), Department of Veterans Affairs, 810 Vermont Ave. NW, Room 1064, Washington, DC 20420; or by fax to (202) 273-9026 (not a toll free number). Comments should indicate that they are submitted in response to 13-VA047 Individuals Submitting Invoices-Vouchers for Payment and Accounting Transactional Data-VA. Copies of comments received will be available for public inspection in the Office of Regulation Policy and Management, Room 1063B, between the hours of 8:00 a.m. and 4:30 p.m., Monday through Friday (except holidays). Please call (202) 461 4902 for an appointment. (This is not a toll-free number.) In addition, comments may be viewed online at www.Regulations.gov.

FOR FURTHER INFORMATION CONTACT: Jaime Manzano, Jaime.Manazano@va.gov, (512) 460-5307.

SUPPLEMENTARY INFORMATION: Individuals Submitting Invoices-Vouchers for Payment and Accounting Transactional Data-VA is a VA-wide financial management system of records utilized in VA's IT accounting systems for payment of benefits, vendor proposals payments and quotes, invoice payment processing, and payroll purposes. Information is collected from recipients, vendors, VA administrations, medical centers, and other Federal entities for rendering payment.

Updated authorities by which the data is collected are 31 U.S.C. 3512—Executive Agency Accounting and other Financial Management Reports and Plans; Federal Managers' Financial Integrity Act Section 2 of 1982; Federal Financial Management Improvement Act of 1996; E-Government Act of 2002 Title III., Federal Information Security Management Act (FISMA); Clinger Cohen Act of 1996; 38 CFR part 17 §§ 17.120-17.132; OMB Circular A-123, Management's Responsibility for Internal Control; and OMB Circular A-127, Financial Management Systems.

Additional Routine Uses were added based on revised guidelines to A-108 and updated standards for agency breach notification. Moreover, VA must be able to provide its own initiative information that pertains to a violation of laws to law enforcement authorities in order for them to investigate and enforce those laws. Under 38 U.S.C. 5701(a) and (f), VA may only disclose the names and addresses of veterans and their dependents to Federal entities with law enforcement responsibilities. This is distinct from the authority to disclose records in response to a qualifying request from a law enforcement entity, as authorized by Privacy Act subsection 5 U.S.C. 552a(b)(7). VA will administer financial and transactional information through benefit disbursement consuming HIPPA related data thus amending the routine uses to include: 14.Federal Agencies, Hospitals, for Referral by VA.; 15.Non-VA Doc, for Referral to VA; 18.Researchers, for Research; 25.Claims Representatives; and 26.Third Party, for Benefit or Discharge. Location of the system of records is a notable change to being stored, managed, and secured within a momentum cloud application.

Numerical order of routine uses from original SORN listing to revised version is amended to the below agency standardized format including the first ten routine uses:

1. Congress.

2. Data breach response and remedial efforts.

3. Data breach response and remedial efforts with another Federal agency.

4. Law Enforcement.

5. Litigation.

6. Contractors.

7. EEOC.

8. FLRA.

9. MSPB.

10. NARA & GSA.

Congress. VA may disclose information from the record of an individual in response to an inquiry from the congressional office made at the request of that individual. VA must be able to provide information about individuals to adequately respond to inquiries from Members of Congress at the request of constituents who have sought their assistance. Justification—VA established standardized Routine Use. Disclosures may be made to a congressional office from the record of an individual in response to an inquiry from the congressional office made at the request of the individual to whom the record pertains. The disclosure must be within the scope of the individual's request and release of individually identifiable treatment records relating to alcohol, drug abuse, sickle cell anemia, or human immunodeficiency virus/AIDS must be specifically addressed in the individual's request to the congressional office for assistance. In those cases, however, where the congressional inquiry indicates that the request is being made on behalf of a person other than the individual whose record is to be disclosed, the congressional office should be advised that the written consent of the subject of the record is required. The Privacy Act limitation on disclosure of personal information contained in any VA system of records shall not apply to any Chairman/Head of a committee in the House of Representatives or the United States Senate Veterans' Affairs or Appropriations Committees (including the Subcommittees on VA, HUD, and Independent Agencies) if an official request for the disclosure has been made for an oversight purpose on a matter within the jurisdiction of the Committee or Subcommittee. Use case—Use of information is necessary and proper to ensure the veteran and whom they entrust and deem necessary have access to advocate on their behalf.

Data breach response and remedial efforts. To appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with [the agency's] efforts to respond to the suspected or confirmed breach or to prevent, minimize, or remedy such harm. Justification—VA established standardized Routine Use. This routine use permits disclosures by the Department to respond to a suspected or confirmed data breach, including the conduct of any risk analysis or provision of credit protection services as provided in 38 U.S.C. 5724 and, in accordance with Veterans Benefits, Health Care, and Information Technology Act of 2006 §§ 5723—5724. VA may notify officials other than officials within the Department of data breaches when required. In the instance of 20 or more individuals affected, VA may provide notice to Director of Office of Management and Budget and other such Federal entities as determined relevant through quantitative and qualitative risk analyses whether independent or internal on a confirmed data breach. Specifically, VA may authorize an independent risk analysis by a non-VA entity and/or Office of Inspector General in cases involving PII and/or PHI. Findings of such risk analysis may endorse and invoke provisioning of credit monitoring for all those affected. Use Case—Use of information is necessary and proper to mitigate the effect of a confirmed data breach through provisioning credit monitoring. Notification of non-federal entities in compliance and risk assessment capacity to perform prevention strategies.

Data breach response and remedial efforts with another Federal agency. To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach. Justification—VA established standardized Routine Use: In accordance with U.S.C 38§ 5723, (7) VA will ensure that the Assistant Secretary for Information and Technology, in coordination with the Under Secretaries, Assistant Secretaries, and other key officials of the Department report to Congress, the Office of Management and Budget, and other entities as required by law and this section of the regulation to cooperate with notify and cooperate with officials other than officials of the Department of data breaches when required. Use Case—Use of information is necessary and proper to initiate investigations into confirmed data breaches involving other executive branch agencies.

Law Enforcement. VA may disclose information in this system, except the names and home addresses of veterans and their dependents, which is relevant to a suspected or reasonably imminent violation of law, whether civil, criminal or regulatory in nature and whether arising by general or program statute or by regulation, rule or order issued pursuant thereto, to a Federal, State, local, Tribal, or foreign agency charged with the responsibility of investigating or prosecuting such violation, or charged with enforcing or implementing the statute, regulation, rule or order. Justification—VA established standardized Routine Use: VA may also disclose the names and addresses of veterans and their dependents to a Federal agency charged with the responsibility of investigating or prosecuting civil, criminal or regulatory violations of law, or charged with enforcing or implementing the statute, regulation, rule or order issued pursuant thereto. Use Case—Use of information is necessary and proper to cooperate with other federal agencies while prosecuting civil, criminal or regulatory violations of law.

Litigation. It shall be a routine use of the records in this system of records to disclose them to the Department of Justice when

(a) VA, or any component thereof; or

(b) any employee of VA in his or her official capacity; or

(c) any employee of VA in his or her individual capacity where the Department of Justice has agreed to represent the employee; or

(d) the United States, where VA determines that litigation is likely to affect VA or any of its components is a party to litigation or has an interest in such litigation and the use of such records by the Department of Justice is deemed by VA to be relevant and necessary to the litigation.

Use Case—Use of information is necessary and proper to disclose records in this system of records in legal proceedings before a court or administrative body.

Contractors. VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement. This routine use includes disclosures by an individual or entity performing services for VA to any secondary entity or individual to perform an activity that is necessary for individuals, organizations, private or public agencies, or other entities or individuals with whom VA has a contract or agreement to provide the service to VA. This routine use also applies to agreements that do not qualify as contracts defined by Federal procurement laws and regulations. Justification—VA established standardized Routine Use: VA may disclose information from this system of records to individuals, organizations private or public agencies, or other entities or individuals with whom VA has a contract or agreement to perform such services on behalf of VA acting in such capacity as an agent of VA on a need to know basis. Use Case—Use of information is necessary and proper to disclose records from this system of records for entities contracted, entered into an agreement, and performing duties on behalf of VA.

EEOC. VA may disclose information from this system to the Equal Employment Opportunity Commission (EEOC) when requested in connection with investigations of alleged or possible discriminatory practices, examination of Federal affirmative employment programs, or other functions of the Commission as authorized by law or regulation. Justification—VA established standardized Routine Use: VA must be able to provide information to EEOC to assist it in fulfilling its duties to protect employees' rights, as required by statute and regulation. Use Case—Use of information is necessary and proper to disclose records from this system of records to protect VA employee rights.

FLRA. VA may disclose information from this system to the Federal Labor Relations Authority (FLRA), including its General Counsel, information related to the establishment of jurisdiction, investigation, and resolution of allegations of unfair labor practices, or in connection with the resolution of exceptions to arbitration awards when a question of material fact is raised; for it to address matters properly before the Federal Services Impasses Panel, investigate representation petitions, and conduct or supervise representation elections. Justification—VA established standardized Routine Use: VA must be able to provide information to FLRA to comply with the statutory mandate under which it operates. Use Case—Use of information is necessary and proper to cooperate with labor relation investigations.

MSPB. VA may disclose information from this system to the Merit Systems Protection Board (MSPB), or the Office of the Special Counsel, when requested in connection with appeals, special studies of the civil service and other merit systems, review of rules and regulations, investigation of alleged or possible prohibited personnel practices, and such other functions promulgated in 5 U.S.C. 1205 and 1206, or as authorized by law. Justification—VA established standardized Routine Use: VA must be able to provide information to MSPB to assist it in fulfilling its duties as required by statute and regulation. Use Case—Use of information is necessary and proper to cooperate with Merit Systems Protection Board and/or Office of Special Counsel concerning allegations of prohibited personnel practices. Disclosure may be made to a congressional office from the record of an individual in response to an inquiry from the congressional office made at the request of that individual.

Disclosure may be made to NARA (National Archives and Records Administration) GSA (General Services Administration) in records management inspections conducted under authority of 44 U.S.C. 2904 and 2906. (In present SORN and will not Change)

Transfer payment information necessary to complete payment of claims and to furnish income data Form 1099 to the Treasury Department in order to effect payment of claims to vendors and to furnish income information. (In present SORN and will not Change)

In the event that a system of records maintained by this agency to carry out its functions indicates a violation or potential violation of law, whether civil, criminal or regulatory in nature, and whether arising by general statute or particular program statute, or by regulation, rule or order issued pursuant thereto, the relevant records in the system of records may be referred, as a routine use, to the appropriate agency, whether Federal, State, local or foreign, charged with the responsibility of investigating or prosecuting such violation or charged with enforcing or implementing the statute, or rule, regulation or order issued pursuant thereto. (Deleted and replaced with more up-to-date)

A record from this system of records may be disclosed as a `routine use' to a Federal, State or local agency or to a non-governmental organization maintaining civil, criminal or other relevant information, such as current licenses, registration or certification, if necessary to obtain information relevant to an agency decision concerning the hiring or retention of an employee, the use of an individual as a consultant, attending or to provide fee basis health care, the issuance of a security clearance, the letting of a contract, or the issuance of a license, grant or other benefits. These records may also be disclosed as part of an ongoing computer matching program to accomplish these purposes. (Deleted and updated by—In Original SORN—Deleted or Replaced by updated Routine Use detailed below)

A record from this system of records may be disclosed to a Federal, State or local agency, in response to its request, in connection with the hiring or retention of an employee, the issuance of a security clearance, the reporting of an investigation of an employee, the letting of a contract, or the issuance of a license, grant, or other benefit by the requesting agency, to the extent that the information is relevant and necessary to the requesting agency's decision on the matter. (Deleted and updated by—In Original SORN—Deleted or Replaced by updated Routine Use detailed below)

Relevant information from this system of records, including the nature and amount of financial obligation, may be disclosed as a routine use, in order to assist the Veterans Administration in the collection of unpaid financial obligations owed the VA, to a debtor's employing agency or commanding officer so that the debtor-employee may be counseled by his or her Federal employer or commanding officer. This purpose is consistent with 5 U.S.C. 5514, 4 CFR 102.5, and section 206 of Executive Order 11222 of May 8, 1965 (30 FR 6469). (Deleted and updated by—In Original SORN—Deleted or Replaced by updated Routine Use detailed below)

Relevant information from this system of records, including available identifying data regarding the debtor, such as name of debtor, last known address of debtor, name of debtor's spouse, social security account number of debtor, VA insurance number, VA loan number, VA claim number, place of birth and date of birth of debtor, name and address of debtor's employer or firm and dates of employment, may be disclosed to other Federal agencies, State probate courts, State drivers license bureaus, and State automobile title and license bureaus as a routine use in order to obtain current address, locator and credit report assistance in the collection of unpaid financial obligations owed the U.S. This purpose is consistent with the Federal Claims Collection Act of 1966 (Pub. L. 89-508, 31 U.S.C. 951-953) and 4 CFR parts 101-105. (Deleted and updated by—In Original SORN—Deleted or Replaced by updated Routine Use detailed below)

Records from this system of records may be disclosed to a Federal Agency or to a State or local government licensing board and/or to the Federation of State Medical Boards or a similar nongovernment entity which maintains records concerning individuals' employment histories or concerning the issuance, retention or revocation of licenses, certifications, or registration necessary to practice an occupation, profession or specialty, in order for the Agency to obtain information relevant to an Agency decision concerning the hiring, retention or termination of an employee or to inform a Federal Agency or licensing boards or the appropriate nongovernment entities about the health care practices of a terminated, resigned or retired health care employee whose professional health care activity so significantly failed to conform to generally accepted standards of professional medical practice as to raise reasonable concern for the health and safety of patients in the private sector or from another Federal Agency. These records may also be disclosed as part of an ongoing computer matching program to accomplish these purposes. (Deleted and updated by—In Original SORN—Deleted or Replaced by updated Routine Use detailed below)

Relevant information (excluding medical treatment information related to drug or alcohol abuse, infection with the human immunodeficiency virus or sickle cell anemia) may be disclosed to the Department of Health and Human Services (HHS) for the purpose of identifying improper duplicate payments made by Medicare fiscal intermediaries where VA authorized and was responsible for payment for medical services obtained at non-VA health care facilities. The purpose of the review is for HHS to identify duplicate payments and initiate recovery of identified overpayments and, where warranted, initiate fraud investigations, or, to seek reimbursement from VA for those services which were authorized by VA and for which no payment, or partial payment, was made by VA. HHS will provide information to identify the patient to include the patient name, address, Social Security number, date of birth, and information related to the period of medical treatment for which payment was made by Medicare to include the name and address of the hospital, the admission and discharge dates, the services for which payment was made, and the dates and amounts of payment. Information disclosed from this system of records will be limited to that information that is necessary to confirm or disprove an inappropriate payment by Medicare. These records may also be disclosed as part of an ongoing computer matching program to accomplish these purposes. (Deleted and updated by—In Original SORN—Deleted or Replaced by updated Routine Use detailed below)

Identifying information in this system, including name, address, social security number and other information as is reasonably necessary to identify such individual, may be disclosed to the National Practitioner Data Bank at the time of hiring and/or clinical privileging/reprivileging of health care practitioners, and other times as deemed necessary by VA, in order for VA to obtain information relevant to a Department decision concerning the hiring, privileging/reprivileging, retention or termination of the applicant or employee. (Deleted and updated by—In Original SORN—Deleted or Replaced by updated Routine Use detailed below)

Relevant information from this system of records may be disclosed to the National Practitioner Data Bank and/or State Licensing Board in the State(s) in which a practitioner is licensed, in which the VA facility is located, and/or in which an act or omission occurred upon which a medical malpractice claim was based when VA reports information concerning: (1) Any payment for the benefit of a physician, dentist, or other licensed health care practitioner which was made as the result of a settlement or judgment of a claim of medical malpractice if an appropriate determination is made in accordance with agency policy that payment was related to substandard care, professional incompetence or professional misconduct on the part of the individual; (2) a final decision which relates to possible incompetence or improper professional conduct that adversely affects the clinical privileges of a physician or dentist for a period longer than 30 days; or, (3) the acceptance of the surrender of clinical privileges or any restriction of such privileges by a physician or dentist either while under investigation by the health care entity relating to possible incompetence or improper professional conduct, or in return for not conducting such an investigation or proceeding. These records may also be disclosed as part of a computer matching program to accomplish these purposes. (Deleted and updated by—In Original SORN—Deleted or Replaced by updated Routine Use detailed below)

Federal Agencies, for Computer Matches. VA may disclose identifying information, including social security number, concerning veterans, spouses of veterans, and the beneficiaries of veterans to other federal agencies for the purpose of conducting computer matches to obtain information to determine or verify eligibility of veterans receiving VA medical care under Title 38, U.S.C. Office Enterprise Integration (OEI) may disclose limited individual identification information to another Federal agency for the purpose of matching and acquiring information held by that agency for OPP to use for the purposes stated for this system of records. Justification—VA established standardized Routine Use: VA must be able to provide limited personally identifiable information to other federal agencies for computer matching activities for the purpose of benefit payments to veterans and beneficiaries. Use Case—Use of information is necessary and proper to conduct computer matching activities with regards to payments and verification of VA payment if VA is considered a Source Agency. (New Routine Use)

Federal Agencies, for Litigation. It shall be a routine use of the records in this system of records to disclose them to the Department of Justice when

(a) VA, or any component thereof; or

(b) any employee of VA in his or her official capacity; or

(c) any employee of VA in his or her individual capacity where the Department of Justice has agreed to represent the employee; or

(d) the United States, where VA determines that litigation is likely to affect VA or any of its components is a party to litigation or has an interest in such litigation and the use of such records by the Department of Justice is deemed by VA to be relevant and necessary to the litigation. Justification—VA established standardized Routine Use: VA may disclose records in this system of records in legal proceedings another federal agency, court, or party in litigation before a court or other administrative proceeding conducted by an agency if VA is a party to the proceeding and needs to disclose the information to protect its interests. Use Case—Use of information is necessary and proper to disclose records in this system of records in legal proceedings before a court or administrative body. (New Routine Use)

Federal Agencies, Hospitals, for Referral by VA. VA may disclose relevant health care information to: (1) A federal agency or non-VA health care provider or institution when VA refers a patient for hospital or nursing home care or medical services, or authorizes a patient to obtain non-VA medical services and the information is needed by the federal agency or non-VA institution on provider to perform the services; or (2) a federal agency or to a non-VA hospital (federal, state, and local public or private) or other medical installation having hospital facilities, organ banks, blood banks, or similar institutions, medical schools or clinics, or other groups or individuals that have contracted or agreed to provide medical services or share the use of medical resources under the provisions of 38 U.S.C. 513, 7409, 8111, or 8153, when treatment is rendered by VA under the terms of such contract or agreement or the issuance of an authorization, and the information is needed for purposes of medical treatment and/or follow-up, determining entitlement to a benefit, or for VA to effect recovery of the costs of the medical care. Justification—VA established standardized Routine Use: VA must be able to provide patient referral information for authorized hospital and/or nursing home care to a non-VA medical services provider for recovery of the costs of the medical care. Use Case—Use of information is necessary and proper as data within this system does not exclusively include financial, transactional, and benefit payout data it also includes VHA PHI information that is funneled in by VISTA. (New Routine Use)

Federal Agencies, for Recovery of Medical Care Costs. VA may disclose patient identifying information to federal agencies and VA and government-wide third-party insurers responsible for payment of the cost of medical care for the identified patients, in order for VA to seek recovery of the medical care costs. These records may also be disclosed as part of a computer matching program to accomplish this purpose. Justification—Use of information is necessary and proper as data within this system does not exclusively include financial, transactional, and benefit payout data it also includes VHA PHI information that is funneled in by VISTA. (New Routine Use) Use Case—Use of information is necessary and proper as data within this system does not exclusively include financial, transactional, and benefit payout data it also includes VHA PHI information that is funneled in by VISTA. (New Routine Use)

Researchers, for Research. VA may disclose information from this system, except the names and home addresses of veterans and their dependents (unless name and address is furnished by the requester), for research purposes determined to be necessary and proper, to epidemiological and other research facilities approved by the Under Secretary for Health. Justification—The data within this system does not just include financial, transactional, and benefit payout data it also includes VHA PHI information that is funneled in by VISTA. Use Case—Use of information is necessary and proper as data within this system does not exclusively include financial, transactional, and benefit payout data it also includes VHA PHI information that is funneled in by VISTA. (New Routine Use)

Treasury, IRS. VA may disclose the name of a veteran or beneficiary, other information as is reasonably necessary to identify such individual, and any other information concerning the individual's indebtedness by virtue of a person's participation in a benefits program administered by VA, may be disclosed to the Department of the Treasury, Internal Revenue Service, for the collection of Title 38 benefit overpayments, overdue indebtedness, and/or costs of services provided to an individual not entitled to such services, by the withholding of all or a portion of the person's Federal income tax refund. The purpose of this disclosure is to collect a debt owed the VA by an individual by offset of his or her Federal income tax refund. Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Treasury, to Report Waived Debt as Income. VA may disclose an individual's name, address, social security number, and the amount (excluding interest) of any indebtedness which is waived under 38 U.S.C. 3102, compromised under 4 CFR part 103, otherwise forgiven, or for which the applicable statute of limitations for enforcing collection has expired, to the Department of the Treasury, Internal Revenue Service, as a report of income under 26 U.S.C. 61(a)(12). Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Treasury, for Payment or Reimbursement. VA may disclose information to the Department of the Treasury to facilitate payments to physicians, clinics, and pharmacies for reimbursement of services rendered, and to veterans for reimbursements of authorized expenses, or to collect, by set off or otherwise, debts owed the United States. Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Guardians Ad Litem, for Representation.VA may disclose information to a fiduciary or guardian ad litem in relation to his or her representation of a claimant in any legal proceeding, but only to the extent necessary to fulfill the duties of the fiduciary or guardian ad litem. This disclosure permits VA to provide individual information to an appointed VA Federal fiduciary or to the individual's guardian ad litem that is needed to fulfill appointed duties. Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Guardians, for Incompetent Veterans. VA may disclose relevant information from this system of records in the course of presenting evidence to a court, magistrate, or administrative tribunal; in matters of guardianship, inquests, and commitments; to private attorneys representing veterans rated incompetent in conjunction with issuance of Certificates of Incompetency; and to probation and parole officers in connection with court-required duties. Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Claims Representatives. VA may disclose information from this system of records relevant to a claim of a veteran or beneficiary, such as the name, address, the basis and nature of a claim, amount of benefit payment information, medical information, and military service and active duty separation information, at the request of the claimant to accredited service organizations, VA-approved claim agents, and attorneys acting under a declaration of representation, so that these individuals can aid claimants in the preparation, presentation, and prosecution of claims under the laws administered by VA. The name and address of a claimant will not, however, be disclosed to these individuals under this routine use if the claimant has not requested the assistance of an accredited service organization, claims agent or an attorney. VA must be able to disclose this information to accredited service organizations, VA-approved claim agents, and attorneys representing veterans so they can assist veterans by preparing, presenting, and prosecuting claims under the laws administered by VA. Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Third Party, for Benefit or Discharge. Health care information concerning a non-judicially declared incompetent patient may be disclosed to a third party upon the written authorization of the patient's next of kin in order for the patient, or, consistent with the best interest of the patient, a member of the patient's family, to receive a benefit to which the patient or family member is entitled, or, to arrange for the patient's discharge from a VA medical facility. Sufficient data to make an informed determination will be made available to such next of kin. If the patient's next of kin are not reasonably accessible, the Chief of Staff, Director, or designee of the custodial VA medical facility may disclose health information for these purposes. Justification—VA established standardized Routine Use: VA must be able to provide information to MSPB to assist it in fulfilling its duties as required by statute and regulation. Use Case—Use of information is necessary and proper to cooperate with Merit Systems Protection Board and/or Office of Special Counsel concerning allegations of prohibited personnel practices. (New Routine Use)

Signing Authority

The Senior Agency Official Privacy, or designee, approved this document and authorized the undersigned to sign and submit the document to the Office of the Federal Register for publication electronically as an official document of the Department of Veterans Affairs. James P. Gfrerer, Assistant Secretary for Information and Technology and Chief Information Officer, Department of Veterans Affairs, approved this document on May 30, 2019 for publication.

Dated: April 20, 2020.
Amy L. Rose,
Program Analyst, VA Privacy Service, Department of Veterans Affairs.

SYSTEM NAME:

Individuals Submitting Invoices-Vouchers for Payment and Accounting Transactional Data-VA 13VA047.

SECURITY CLASSIFICATION:

The information in this system is unclassified.

SYSTEM LOCATION:

VA Data Processing Center, Austin, Texas and fiscal offices of Central Office; field stations where fiscal transactions are processed; and application server located in the VA managed enterprise service cloud enclave.

SYSTEM MANAGER(S):

Tammy Watson, System Owner, VA Financial Services Center (FSC), Austin, TX 78741.

AUTHORITY FOR MAINTENANCE OF THE SYSTEM:

31 U.S.C. 3512—Executive Agency Accounting and other Financial Management Reports and Plans; Federal Managers' Financial Integrity Act Section 2 of 1982; Federal Financial Management Improvement Act of 1996; E-Government Act of 2002 Title III., Federal Information Security Modernization Act (FISMA) of 2014; Clinger Cohen Act of 1996; 38 CFR part 17 §§ 17.120-17.132; OMB Circular A-123, Management's Responsibility for Internal Control; and OMB Circular A-127, Financial Management Systems.

PURPOSE(S) OF THE SYSTEM:

Individuals Submitting Invoices-Vouchers for Payment and Accounting Transactional Data-VA is a VA-wide financial management system of records utilized in VA's IT accounting systems for payment of benefits, vendor payments, invoice payment processing, and payroll purposes. Information is collected from recipients, vendors, VA administrations, medical centers, and other Federal entities for rendering payment.

CATEGORIES OF INDIVIDUALS COVERED BY THE SYSTEM:

Contractors, vendors, salaried employees, non-salaried employees, consultants, physicians and dentists, and patients and veterans.

CATEGORIES OF RECORDS IN THE SYSTEM:

Commercial Vendor identification listings, invoiced payment records, claimant information, and banking and financial accounting information.

RECORD SOURCE CATEGORIES:

Commercial vendors; individual or legal representative as part of an application for a benefit, contract or reimbursement; Data could potentially be obtained from a VA administration, facility and/or medical center; Department of Treasury; Internal Revenue Service; and other Federal entities.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR parts 160 and 164 permitting disclosure.

1. Congress. VA may disclose information from the record of an individual in response to an inquiry from the congressional office made at the request of that individual. VA must be able to provide information about individuals to adequately respond to inquiries from Members of Congress at the request of constituents who have sought their assistance.

2. Data breach response and remedial efforts. To appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA efforts to respond to the suspected or confirmed breach or to prevent, minimize, or remedy such harm.

3. Data breach response and remedial efforts with another Federal agency. To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement. VA may disclose information in this system, except the names and home addresses of veterans and their dependents, which is relevant to a suspected or reasonably imminent violation of law, whether civil, criminal or regulatory in nature and whether arising by general or program statute or by regulation, rule or order issued pursuant thereto, to a Federal, State, local, Tribal, or foreign agency charged with the responsibility of investigating or prosecuting such violation, or charged with enforcing or implementing the statute, regulation, rule or order. VA may also disclose the names and addresses of veterans and their dependents to a Federal agency charged with the responsibility of investigating or prosecuting civil, criminal or regulatory violations of law, or charged with enforcing or implementing the statute, regulation, rule or order issued pursuant thereto.

5. Litigation. It shall be a routine use of the records in this system of records to disclose them to the Department of Justice when

(e) VA, or any component thereof; or

(f) any employee of VA in his or her official capacity; or

(g) any employee of VA in his or her individual capacity where the Department of Justice has agreed to represent the employee; or

(h) the United States, where VA determines that litigation is likely to affect VA or any of its components is a party to litigation or has an interest in such litigation and the use of such records by the Department of Justice is deemed by VA to be relevant and necessary to the litigation.

6. Contractors. VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement. This routine use includes disclosures by an individual or entity performing services for VA to any secondary entity or individual to perform an activity that is necessary for individuals, organizations, private or public agencies, or other entities or individuals with whom VA has a contract or agreement to provide the service to VA. This routine use also applies to agreements that do not qualify as contracts defined by Federal procurement laws and regulations.

7. EEOC. VA may disclose information from this system to the Equal Employment Opportunity Commission (EEOC) when requested in connection with investigations of alleged or possible discriminatory practices, examination of Federal affirmative employment programs, or other functions of the Commission as authorized by law or regulation. VA must be able to provide information to EEOC to assist it in fulfilling its duties to protect employees' rights, as required by statute and regulation.

8. FLRA. VA may disclose information from this system to the Federal Labor Relations Authority (FLRA), including its General Counsel, information related to the establishment of jurisdiction, investigation, and resolution of allegations of unfair labor practices, or in connection with the resolution of exceptions to arbitration awards when a question of material fact is raised; for it to address matters properly before the Federal Services Impasses Panel, investigate representation petitions, and conduct or supervise representation elections. VA must be able to provide information to FLRA to comply with the statutory mandate under which it operates.

9. MSPB. VA may disclose information from this system to the Merit Systems Protection Board (MSPB), or the Office of the Special Counsel, when requested in connection with appeals, special studies of the civil service and other merit systems, review of rules and regulations, investigation of alleged or possible prohibited personnel practices, and such other functions promulgated in 5 U.S.C. 1205 and 1206, or as authorized by law. VA must be able to provide information to MSPB to assist it in fulfilling its duties as required by statute and regulation.

10. NARA. VA may disclose information from this system to the National Archives and Records Administration (NARA) in records management inspections conducted under Title 44, U.S.C. NARA is responsible for archiving old records which are no longer actively used but may be appropriate for preservation, and for the physical maintenance of the Federal government's records. VA must be able to provide the records to NARA in order to determine the proper disposition of such records.

11. Federal Agencies, for Computer Matches. VA may disclose identifying information, including social security number, concerning veterans, spouses of veterans, and the beneficiaries of veterans to other federal agencies for the purpose of conducting computer matches to obtain information to determine or verify eligibility of veterans receiving VA medical care under Title 38, U.S.C. Office Enterprise Integration (OEI) may disclose limited individual identification information to another Federal agency for the purpose of matching and acquiring information held by that agency for OPP to use for the purposes stated for this system of records.

12. Federal Agencies, for Litigation. VA may disclose information to another federal agency, court, or party in litigation before a court or other administrative proceeding conducted by an agency, if VA is a party to the proceeding and needs to disclose the information to protect its interests

13. Federal Agencies, Hospitals, for Referral by VA. VA may disclose relevant health care information to: (1) A federal agency or non-VA health care provider or institution when VA refers a patient for hospital or nursing home care or medical services, or authorizes a patient to obtain non-VA medical services and the information is needed by the federal agency or non-VA institution on provider to perform the services; or (2) a federal agency or to a non-VA hospital (federal, state, and local public or private) or other medical installation having hospital facilities, organ banks, blood banks, or similar institutions, medical schools or clinics, or other groups or individuals that have contracted or agreed to provide medical services or share the use of medical resources under the provisions of 38 U.S.C. 513, 7409, 8111, or 8153, when treatment is rendered by VA under the terms of such contract or agreement or the issuance of an authorization, and the information is needed for purposes of medical treatment and/or follow-up, determining entitlement to a benefit, or for VA to effect recovery of the costs of the medical care.

14. Federal Agencies, for Recovery of Medical Care Costs. VA may disclose patient identifying information to federal agencies and VA and government-wide third-party insurers responsible for payment of the cost of medical care for the identified patients, in order for VA to seek recovery of the medical care costs. These records may also be disclosed as part of a computer matching program to accomplish this purpose.

15. Researchers, for Research. VA may disclose information from this system, except the names and home addresses of veterans and their dependents (unless name and address is furnished by the requester), for research purposes determined to be necessary and proper, to epidemiological and other research facilities approved by the Under Secretary for Health.

16. Treasury, IRS. VA may disclose the name of a veteran or beneficiary, other information as is reasonably necessary to identify such individual, and any other information concerning the individual's indebtedness by virtue of a person's participation in a benefits program administered by VA, may be disclosed to the Department of the Treasury, Internal Revenue Service, for the collection of Title 38 benefit overpayments, overdue indebtedness, and/or costs of services provided to an individual not entitled to such services, by the withholding of all or a portion of the person's Federal income tax refund. The purpose of this disclosure is to collect a debt owed the VA by an individual by offset of his or her Federal income tax refund.

17. Treasury, to Report Waived Debt as Income. VA may disclose an individual's name, address, social security number, and the amount (excluding interest) of any indebtedness which is waived under 38 U.S.C. 3102, compromised under 4 CFR part 103, otherwise forgiven, or for which the applicable statute of limitations for enforcing collection has expired, to the Department of the Treasury, Internal Revenue Service, as a report of income under 26 U.S.C. 61(a)(12).

18. Treasury, for Payment or Reimbursement. VA may disclose information to the Department of the Treasury to facilitate payments to physicians, clinics, and pharmacies for reimbursement of services rendered, and to veterans for reimbursements of authorized expenses, or to collect, by set off or otherwise, debts owed the United States.

19. Guardians Ad Litem, for Representation.VA may disclose information to a fiduciary or guardian ad litem in relation to his or her representation of a claimant in any legal proceeding, but only to the extent necessary to fulfill the duties of the fiduciary or guardian ad litem. This disclosure permits VA to provide individual information to an appointed VA Federal fiduciary or to the individual's guardian ad litem that is needed to fulfill appointed duties.

20. Guardians, for Incompetent Veterans. VA may disclose relevant information from this system of records in the course of presenting evidence to a court, magistrate, or administrative tribunal; in matters of guardianship, inquests, and commitments; to private attorneys representing veterans rated incompetent in conjunction with issuance of Certificates of Incompetency; and to probation and parole officers in connection with court-required duties.

21. Claims Representatives. VA may disclose information from this system of records relevant to a claim of a veteran or beneficiary, such as the name, address, the basis and nature of a claim, amount of benefit payment information, medical information, and military service and active duty separation information, at the request of the claimant to accredited service organizations, VA-approved claim agents, and attorneys acting under a declaration of representation, so that these individuals can aid claimants in the preparation, presentation, and prosecution of claims under the laws administered by VA. The name and address of a claimant will not, however, be disclosed to these individuals under this routine use if the claimant has not requested the assistance of an accredited service organization, claims agent or an attorney. VA must be able to disclose this information to accredited service organizations, VA-approved claim agents, and attorneys representing veterans so they can assist veterans by preparing, presenting, and prosecuting claims under the laws administered by VA.

22. Third Party, for Benefit or Discharge. Health care information concerning a non-judicially declared incompetent patient may be disclosed to a third party upon the written authorization of the patient's next of kin in order for the patient, or, consistent with the best interest of the patient, a member of the patient's family, to receive a benefit to which the patient or family member is entitled, or, to arrange for the patient's discharge from a VA medical facility. Sufficient data to make an informed determination will be made available to such next of kin. If the patient's next of kin are not reasonably accessible, the Chief of Staff, Director, or designee of the custodial VA medical facility may disclose health information for these purposes.

POLICIES AND PRACTICES FOR STORAGE OF RECORDS:

Records are stored electronically on a VA server, in paper folders, magnetic discs, magnetic tape, and in a momentum cloud application. Paper documents may be scanned/digitized and stored for viewing electronically.

POLICIES AND PRACTICES FOR RETRIEVAL OF RECORDS:

VA Directive 6300, Records and Information Management; VA Directive 6502, VA Enterprise Privacy Program; and VA Handbook 6300.4, Procedures for Processing Requests for Records Subject to the Privacy Act.

POLICIES AND PRACTICES FOR RETENTION AND DISPOSAL OF RECORDS:

Individuals Submitting Invoices-Vouchers for Payment and Accounting Transactional Data-VA system of records is retained as defined by its NARA approved Records Control Schedule, MP-4, Part X and within rules of the General Records Schedule (GRS). Unscheduled records within this System of Records are indefinitely retained within the rules GRS, ERA Number DAA-GRS-2013-005-002 (Permanent Retention). Per NARA practice, documentation for permanent electronic records must be transferred with the related records using the disposition authority of the related electronic records rather than the GRS disposition authority.

Agency policy and responsibility for media and electronic sanitization is explicated in VA Handbook 6500.1, Electronic Media Sanitization. This Handbook sets forth policies and responsibilities for the proper sanitization of electronic media prior to repair, disposal, reuse, or recycling. These guidelines are in accordance with Federal Information Processing Standard (FIPS) 200, Minimum Security Requirements for Federal Information and Information Systems; and NIST Special Publication 800-88 Revision 1, Guidelines for Media Sanitization.

VA Directive 6371, Destruction of Temporary Paper Records, is Agency policy for the destruction of temporary paper records.

ADMINISTRATIVE, TECHNICAL, AND PHYSICAL SAFEGUARDS:

VA will store records produced within this system of records in an area that is physically and technologically secure from access by unauthorized persons at all times. Only authorized personnel will transport records within this system of records. VA will process records produced within this system of records under immediate supervision and control of authorized personnel in a manner that will protect the confidentiality of the records, so that unauthorized persons cannot retrieve any records by computer, remote terminal, or other means. VA will store records using FIPS 140-2 compliant encryption. Systems personnel must enter personal identification numbers when accessing records on the agencies' systems. VA will strictly limit authorization to those electronic records areas necessary for the authorized analyst to perform his or her official duties.

RECORD ACCESS PROCEDURES:

An individual wanting notification or access, including contesting the record, should mail or deliver a request to the office identified in the SORN. If an individual does not know the “office concerned,” the request may be addressed to the following with below requirements: PO or FOIA/PO of any VA field station or the Department of Veterans Affairs Central Office, 810 Vermont Avenue NW, Washington, DC 20420. The receiving office must promptly forward the mail request received to the office of jurisdiction clearly identifying it as “Privacy Act Request”, and notify the requester of the referral. Approved VA authorization forms, may be provided to individuals for use.

CONTESTING RECORD PROCEDURES:

An individual may request amendment of a record pertaining to him or her contained in a specific VA system of records by mailing or delivering the request to the office concerned. The request must be in writing and must conform to the following requirements: It must state the nature of the information in the record the individual believes to be inaccurate, irrelevant, untimely, or incomplete; why the record should be changed; and the amendment desired. The requester must be advised of the title and address of the VA official who can assist in preparing the request to amend the record if assistance is desired. Not later than business 10 days after the date of a request to amend a record, the VA official concerned will acknowledge in writing such receipt. If a determination for correction or amendment has not been made, the acknowledgement will inform the individual of when to expect information regarding the action taken on the request. VA will complete a review of the request to amend or correct a record within 30 business days of the date of receipt. Where VA agrees with the individual's request to amend his or her record(s), the requirements of 5 U.S.C. 552a(d) will be followed. The record(s) will be corrected promptly, and the individual will be advised promptly of the correction.

If the record has previously been disclosed to any person or agency, and an accounting of the disclosure was made, prior recipients of the record will be informed of the correction. An approved VA notification of amendment form letter may be used for this purpose. An individual wanting notification or access, including contesting the record, should mail or deliver a request to the Privacy Office or FOIA/Privacy Office of any VA field station or the Department of Veterans Affairs Central Office, 810 Vermont Avenue NW, Washington, DC 20420.

NOTIFICATION PROCEDURES:

Notification for correcting the information will be accomplished by informing the individual to whom the record pertains by mail. The individual making the amendment must be advised in writing that the record has been amended and provided with a copy of the amended record. System Manager for the concerned VA system of records, Privacy Officer, or their designee, will notify the relevant persons or organizations whom had previously received the record about the amendment. If 38 U.S.C. 7332-protected information was amended, the individual must provide written authorization to allow the sharing of the amendment with relevant persons or organizations request to amend a record must be acknowledged in writing within 10 workdays of receipt. If a determination has not been made within this time period, the System Manager for the concerned VA system of records or designee, and/or the facility Privacy Officer, or designee, must advise the individual when the facility expects to notify the individual of the action taken on the request. The review must be completed as soon as possible, in most cases within 30 workdays from receipt of the request. If the anticipated completion date indicated in the acknowledgment cannot be met, the individual must be advised, in writing, of the reasons for the delay and the date action is expected to be completed. The delay may not exceed 90 calendar days from receipt of the request.

EXEMPTIONS PROMULGATED FOR THE SYSTEM:

N/A.

HISTORY:

VA 13VA047, Individuals Submitting Invoices-Vouchers for Payment -VA—published prior to 1995.

[FR Doc. 2020-08611 Filed 4-22-20; 8:45 am]

BILLING CODE P